DEPARTMENT OF THE TREASURY

Customs Service

[T.D. 01-66]

Cancellation of Customs Broker License

AGENCY: Customs Service, Department of the Treasury.

ACTION: Customs broker license cancellation.

SUMMARY: Pursuant to section 641 of the Tariff Act of 1930, as amended, (19 U.S.C. 1641) and the Customs Regulations (19 CFR 111.51), the following Customs broker license is canceled without prejudice.

Name: Eagle USA Import Brokers, Inc.

License #: 16774.

Port Name: Dallas/Ft. Worth, TX.

Dated: September 6, 2001.
Bonni G. Tischler,
Assistant Commissioner, Office of Field Operations.

[FR Doc. 01-23197 Filed 9-17-01; 8:45 am]

BILLING CODE 4820-02-P